DEPARTMENT OF COMMERCE

International Trade Administration

[A-201-843, A-549-829, A-570-990]

Prestressed Concrete Steel Rail Tie Wire From Mexico, Thailand, and the People's Republic of China: Postponement of Preliminary Determinations of Antidumping Duty Investigations

AGENCY: Import Administration, International Trade Administration, Department of Commerce.

DATES: Effective Date: September 19, 2013.

FOR FURTHER INFORMATION CONTACT: Rebecca Trainor (Mexico) (202) 482-4007, Katherine Johnson (Thailand) (202-482-4929) or Brian Smith (PRC) (202) 482-1766; AD/CVD Operations, Office 2, Import Administration, International Trade Administration, U.S. Department of Commerce, 14th Street and Constitution Avenue NW., Washington, DC 20230.

SUPPLEMENTARY INFORMATION:

Postponement of Preliminary Determinations

On May 13, 2013, the Department of Commerce (the Department) initiated antidumping duty investigations of imports of prestressed concrete steel rail tie wire from Mexico, Thailand, and the People's Republic of China. See Prestressed Concrete Steel Rail Tie Wire From Mexico, the People's Republic of China, and Thailand: Initiation of Antidumping Duty Investigations, 78 FR 29325 (May 20, 2013). The notice of initiation stated that we would issue our preliminary determinations no later than 140 days after the date of initiation. Currently, the preliminary determinations in these investigations are due on September 30, 2013.

On September 4, 2013, Davis Wire Corporation and Insteel Wire Products Company (hereafter, the petitioners) made timely requests, pursuant to section 733(c)(1)(A) of the Tariff Act of 1930, as amended (the Act), and 19 CFR 351.205(e), for a 50-day postponement of the preliminary determinations in the investigations.¹ The petitioners stated that a postponement of these preliminary determinations is necessary because the Department is still involved in gathering and analyzing data from the respondents and formulating supplemental questionnaires for the respondents in order to develop a complete and accurate record for purposes of the preliminary determinations.

¹ See the petitioners' letter to the Department dated September 4, 2013.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, for the reasons stated above and because there are no compelling reasons to deny the petitioners' requests, the Department is postponing the preliminary determinations in these investigations until November 19, 2013, which is 190 days from the date on which the Department initiated these investigations.

The deadline for the final determinations will continue to be 75 days after the date of the preliminary determinations, unless extended.

This notice is issued and published pursuant to section 733(c)(2) of the Act and 19 CFR 351.205(f)(1).

Dated: September 10, 2013.
Paul Piquado,
Assistant Secretary for Import Administration.

[FR Doc. 2013-22470 Filed 9-18-13; 8:45 am]

BILLING CODE 3510-DS-P